Title 3—

The President

Proclamation 10394 of May 12, 2022

Remembering the 1,000,000 Americans Lost to COVID-19

By the President of the United States of America

A Proclamation

Today, we mark a tragic milestone: one million American lives lost to COVID-19. One million empty chairs around the dinner table. Each an irreplaceable loss. Each leaving behind a family, a community, and a Nation forever changed because of this pandemic. Jill and I pray for each of them.

As a Nation, we must not grow numb to such sorrow. To heal, we must remember. We must remain vigilant against this pandemic and do everything we can to save as many lives as possible. In remembrance, let us draw strength from each other as fellow Americans. For while we have been humbled, we never give up. We can and will do this together as the United States of America.

In memory of the one million American lives lost to COVID-19 and their loved ones left behind, I hereby order, by the authority vested in me by the Constitution and laws of the United States, that the flag of the United States shall be flown at half-staff at the White House and on all public buildings and grounds, at all military posts and naval stations, and on all naval vessels of the Federal Government in the District of Columbia and throughout the United States and its Territories and possessions until sunset May 16, 2022. I also direct that the flag shall be flown at half-staff for the same period at all United States embassies, legations, consular offices, and other facilities abroad, including all military facilities and naval vessels and stations.

IN WITNESS WHEREOF, I have hereunto set my hand this twelfth day of May, in the year of our Lord two thousand twenty-two, and of the Independence of the United States of America the two hundred and forty-sixth.

[FR Doc. 2022-10750

Filed 5-16-22; 11:15 am]

Billing code 3395-F2-P